DEPARTMENT OF HEALTH AND HUMAN SERVICES

National Institutes of Health

National Institute on Deafness and Other Communication Disorders; Notice of Meeting

Notice is hereby given of a change in the meeting of the National Institute on Deafness and Other Communication Disorders Special Emphasis Panel, September 28, 2007, 11:30 a.m. to September 28, 2007, 1:30 p.m. National Institutes of Health, 6120 Executive Blvd., Rockville, MD 20852 which was published in the Federal Register on August 28, 2007, 72 FR 49287.

The meeting will be held October 19, 2007. The meeting is closed to the public.

Dated: September 28, 2007.
Jennifer Spaeth,
Director, Office of Federal Advisory Committee Policy.

[FR Doc. 07-4922 Filed 10-3-07; 8:45 am]

BILLING CODE 4140-01-M